DEPARTMENT OF HEALTH AND HUMAN SERVICES

Health Resources and Services Administration

[CFDA #93.926]

Maternal and Child Health Federal Set-Aside Program; Healthy Start Initiative, Closing the Health Gap Initiative on Infant Mortality: African American-Focused Risk Reduction

AGENCY: Health Resources and Services Administration, HHS.

ACTION: Notice of grant award.

SUMMARY: The Maternal and Child Health Bureau (MCHB), Health Resources and Services Administration (HRSA), awarded four cooperative agreements of $562,500 each, (for a total of $2.25 million) in fiscal year (FY) 2004, to four States: Illinois, Michigan, Mississippi, and South Carolina. The grants support the creation of evidence-based interventions and strategies to lower infant mortality among African Americans. The award was made from funds appropriated under Public Law 108-199 (Consolidated Appropriations Act, 2004). As part of HHS's overall appropriation, monies have been designated to support the Closing the Health Gap on Infant Mortality Initiative, under HRSA Guidance HRSA-04-097. The African American Initiative, to reduce low birthweight and SDS, was developed jointly by HRSA and the Acting Assistant Secretary for Health to address health disparities in States experiencing the highest mortality rates for African Americans.

Limited Competition Justification: The HRSA is providing Federal funds to lower infant mortality among African Americans in these four States based on their high rates of African American infant mortality; significant number of births to African Americans; their rank among the top States for highest percentage of African American births that are low birth weight (LBW); and their disproportionately high percentage of Sudden Infant Death Syndrome (SIDS) deaths among African Americans.

The funds are awarded to these four States so that they may work within a community that is committed to bring evidence-based practices to bear on the problem of high African American infant mortality rates caused by preterm birth (PTB), LBW, and SIDS. The cooperative agreements support strategies in each State that are culturally competent, represent a partnership between the State Title V agency and the local community; build on existing HHS or other funded programs; and employ one or more science-based approaches to African American infant mortality risk reduction. These agreements will also support the projects' evaluation of their progress according to specific goals and objectives.

Other Award Information: The Catalog of Federal Domestic assistance number is 93.926; HRSA Activity Code U-19.

FOR FURTHER INFORMATION CONTACT: Maribeth Badura, M.S.N., R.N., Division of Perinatal Systems and Women's Health, Maternal and Child Health Bureau, HRSA, 5600 Fishers Lane, Room 10-C-16, Rockville, MD 20857, (301) 443-0543.

Dated: September 15, 2004.
Elizabeth M. Duke,
Administrator.

[FR Doc. 04-21222 Filed 9-21-04; 8:45 am]

BILLING CODE 4165-15-P